DEPARTMENT OF ENERGY

Federal Regulatory Commission

[Docket No. RP01-257-000]

ANR Pipeline Company; Notice of Proposed Changes in FERC Gas Tariff

March 6, 2001.

Take notice that on February 28, 2001, ANR Pipeline Company (ANR) tendered for filing as part of its FERC Gas Tariff, Second Revised Volume No. 1, the following revised tariff sheet, proposed to become effective March 1, 2001.

Fifty-sixth Revised Sheet No. 18

ANR states that the above-referenced tariff sheet is being filed to implement the annual reconciliation of the recovery of its Above-Market Dakota Costs, as required by its tariff recovery mechanism. ANR advises that the filing proposes a reservation surcharge adjustment of $0.005 applicable to its currently effective, firm service Rate Schedules. Pursuant to this surcharge, ANR proposes to recover, over the twelve month period of March 1, 2001 to February 28, 2002, the $308,585 of Above-Market Dakota Cost undercollections, inclusive of interest, which are reflected in the filing.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at ­ http://www.ferc.fed.us/efi/doorbell.htm.

David P. Boergers,
Secretary.

[FR Doc. 01-6007 Filed 3-9-01; 8:45 am]

BILLING CODE 6717-01-M